DEPARTMENT OF LABOR

Employment and Training Administration

[TA-W-60,086]

Ford Motor Company Product Development and Engineering Center; Dearborn, MI; Notice of Affirmative Determination Regarding Application for Reconsideration

By letter dated April 15, 2007, three workers requested administrative reconsideration by the Department of Labor (Department) of the Department's Notice of Negative Determination Regarding Eligibility to Apply for Worker Adjustment Assistance, applicable to workers and former workers of the subject firm. The negative determination was issued on March 15, 2007. The Department's Notice of determination was published in the Federal Register on March 30, 2007 (72 FR 15168). The subject worker group performed product development and engineering services.

The determination states that “In order to be considered eligible to apply for adjustment assistance under Section 223 of the Trade Act, the worker group seeking certification (or on whose behalf certification is being sought) must work for a “firm” or appropriate subdivision that produces an article domestically and there must be a relationship between the workers' work and the article produced by the workers' firm or appropriate subdivision.” The negative determination was based on the Department's findings that the subject worker group did not directly support subject firm production.

In the request for reconsideration, the workers alleged that the subject worker group directly supported domestic production of automobiles produced by Ford Motor Company.

The Department has carefully reviewed the workers' request for reconsideration and the existing record, and has determined that an administrative review is appropriate.

Conclusion

After careful review of the application, I conclude that the claim is of sufficient weight to justify reconsideration of the U.S. Department of Labor's prior decision. The application is, therefore, granted.

Signed at Washington, DC, this 22nd day of May 2007.
Elliott S. Kushner,
Certifying Officer, Division of Trade Adjustment Assistance.

[FR Doc. E7-10305 Filed 5-29-07; 8:45 am]

BILLING CODE 4510-FN-P